Proclamation 10525 of February 28, 2023

Irish-American Heritage Month, 2023

By the President of the United States of America

A Proclamation

During Irish-American Heritage Month, I think of my great-great grandparents—the Blewitts of County Mayo and the Finnegans of County Louth. Like so many other Irish immigrants who sought a new beginning in the United States, they arrived on our shores with hearts full of hope and dreams of the future. With grit and determination, they worked hard. And as they built their lives, they helped build America—never forgetting where they came from, always remembering the courage and pride they brought with them from the old country, and passing these traits down to each new generation.

That pride lives on today in the hearts of Irish Americans across our Nation. It lives on in business owners, scientists, and labor leaders who hold dear the Irish belief that everyone deserves to be treated with dignity. And it runs deep in so many first responders, public servants, and brave service members who defend our lives and liberties—the same liberties that so many Irish immigrants and Irish Americans helped preserve and protect.

President John F. Kennedy once said, “Our two nations, divided by distance, have been united by history.” Today, the Republic of Ireland and the United States are also bound in our hope for the future—a future that is equal, just, and prosperous for all of our people. Together, our nations have stepped up to address COVID-19 and the climate crisis. We have spoken out for human rights around the world and supported the people of Ukraine as they defend themselves against Russia's brutal war. And this year, we commemorate the 25th anniversary of the Good Friday Agreement that helped create a more peaceful and prosperous future for the people of Northern Ireland.

Ireland and the United States are forever bound together by our people and our passion. Everything between us runs deep. In the years ahead, I look forward to strengthening the partnership between our countries and the friendship between our people even further.

NOW, THEREFORE, I, JOSEPH R. BIDEN JR., President of the United States of America, by virtue of the authority vested in me by the Constitution and the laws of the United States, do hereby proclaim March 2023 as Irish-American Heritage Month. I call upon all Americans to celebrate the achievements and contributions of Irish Americans to our Nation with appropriate ceremonies, activities, and programs.

IN WITNESS WHEREOF, I have hereunto set my hand this twenty-eighth day of February, in the year of our Lord two thousand twenty-three, and of the Independence of the United States of America the two hundred and forty-seventh.

[FR Doc. 2023-04545

Filed 3-2-23; 8:45 am]

Billing code 3395-F3-P